FEDERAL COMMUNICATIONS COMMISSION

47 CFR Parts 1, 8, and 20

[WC Docket No. 17-108, FCC 17-166]

Restoring Internet Freedom

AGENCY: Federal Communications Commission.

ACTION: Final rule; announcement of effective date.

SUMMARY: In this document, the Commission announces that the Office of Management and Budget (OMB) has approved, for a period of three years, the information collection associated with the Commission's Restoring Internet Freedom Declaratory Ruling, Report and Order, and Order (Order)'s transparency rule. This document is consistent with the Order, which stated that the Commission would publish a notice in the Federal Register announcing the effective date of the refinements to the transparency rule, the delayed amendatory instructions revising the Commission's rules consistent with the Order, and the Order, which among other things restore the classification of broadband internet access service as an information service, reinstate the private mobile service classification of mobile broadband internet access service, and eliminate the conduct rules imposed by the Title II Order.

DATES: The Order and amendments to 47 CFR 1.49, 8.1, 8.2, 8.3, 8.5, 8.7, 8.9, 8.11, 8.12, 8.13, 8.14, 8.15, 8.16, 8.17, 8.18, 8.19, and 20.3, published at 83 FR 7852, February 22, 2018, are effective June 11, 2018.

FOR FURTHER INFORMATION CONTACT: Ramesh Nagarajan, Competition Policy Division, Wireline Competition Bureau, at (202) 418-2582, or Ramesh.Nagarajan@fcc.gov.

SUPPLEMENTARY INFORMATION: This document announces that, on May 2, 2018, OMB approved, for a period of three years, the information collection requirements relating to the transparency rule contained in the Commission's Order, FCC 17-166, published at 83 FR 7852, February 22, 2018. The OMB Control Number is 3060-1158. The Commission publishes this document as an announcement of the effective date of the refinements to the transparency rule, the delayed amendatory instructions (amendatory instructions 2, 3, 5, 6, and 8 published at 83 FR 7852, February 22, 2018), and the Order, which among other things restore the classification of broadband internet access service as an information service, reinstate the private mobile service classification of mobile broadband internet access service, and eliminate the conduct rules imposed by the Title II Order. If you have any comments on the burden estimates listed below, or how the Commission can improve the collections and reduce any burdens caused thereby, please email PRA@fcc.gov or contact Nicole Ongele, Federal Communications Commission, at Nicole.Ongele@fcc.gov or (202) 418-2991. Please include the OMB Control Number, 3060-1158, in your correspondence.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on May 2, 2018, for the information collection requirements contained in the modifications to the Commission's rules in 47 CFR part 8. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1158.

The foregoing notice is required by the Paperwork Reduction Act of 1995, Public Law 104-13, October 1, 1995, and 44 U.S.C. 3507.

The total annual reporting burdens and costs for the respondents are as follows:

OMB Control Number: 3060-1158.

OMB Approval Date: May 2, 2018.

OMB Expiration Date: May 31, 2021.

Title: Transparency Rule Disclosures, Restoring Internet Freedom, Report and Order, WC Docket No. 17-108, FCC 17-166.

Form Number: N/A.

Respondents: Business or other for-profit entities, Not-for-profit entities, State, local, or Tribal governments.

Number of Respondents and Responses: 1,919 respondents; 1,919 responses.

Estimated Time per Response: 26 hours.

Frequency of Response: On-occasion reporting requirement; Third-party disclosure requirement.

Obligation to Respond: Required to obtain or retain benefits. The statutory authority for this information collection is contained in Section 257 of the Communications Act of 1934, as amended, 47 U.S.C. 257.

Total Annual Burden: 49,894 hours.

Total Annual Cost: $560,000.

Privacy Act Impact Assessment: No impact(s).

Nature and Extent of Confidentiality: There is no need for confidentiality with this information collection.

Needs and Uses: The Order revises the information collection requirements applicable to internet service providers (ISPs). The Order requires an ISP to publicly disclose network management practices, performance characteristics, and commercial terms of its broadband internet access service sufficient to enable consumers to make informed choices regarding the purchase and use of such services, and entrepreneurs and other small businesses to develop, market, and maintain internet offerings. As part of these disclosures, the rule requires ISPs to disclose their congestion management, application-specific behavior, device attachment rules, and security practices, as well as any blocking, throttling, affiliated prioritization, or paid prioritization in which they engage. Specifically, the rule requires ISPs to disclose:

• Blocking. Any practice (other than reasonable network management elsewhere disclosed) that blocks or otherwise prevents end user access to lawful content, applications, service, or non-harmful devices, including a description of what is blocked.

• Throttling. Any practice (other than reasonable network management elsewhere disclosed) that degrades or impairs access to lawful internet traffic on the basis of content, application, service, user, or use of a non-harmful device, including a description of what is throttled.

• Affiliated Prioritization. Any practice that directly or indirectly favors some traffic over other traffic, including through use of techniques such as traffic shaping, prioritization, or resource reservation, to benefit an affiliate, including identification of the affiliate.

• Paid Prioritization. Any practice that directly or indirectly favors some traffic over other traffic, including through use of techniques such as traffic shaping, prioritization, or resource reservation, in exchange for consideration, monetary or otherwise.

• Congestion Management. Descriptions of congestion management practices, if any. These descriptions should include the types of traffic subject to the practices; the purposes served by the practices; the practices' effects on end users' experience; criteria used in practices, such as indicators of congestion that trigger a practice, including any usage limits triggering the practice, and the typical frequency of congestion; usage limits and the consequences of exceeding them; and references to engineering standards, where appropriate.

• Application-Specific Behavior. Whether and why the ISP blocks or rate-controls specific protocols or protocol ports, modifies protocol fields in ways not prescribed by the protocol standard, or otherwise inhibits or favors certain applications or classes of applications.

• Device Attachment Rules. Any restrictions on the types of devices and any approval procedures for devices to connect to the network.

• Security. Any practices used to ensure end-user security or security of the network, including types of triggering conditions that cause a mechanism to be invoked (but excluding information that could reasonably be used to circumvent network security).

The rule also requires ISPs to disclose performance characteristics, including a service description and the impact of non-broadband internet access services data services. Specifically, the rule requires ISPs to disclose a general description of the service—including the service technology, expected and actual access speed and latency, and the suitability of the service for real-time applications—as well as what non-broadband internet access service data services, if any, are offered to end users, and whether and how any non-broadband internet access service data services may affect the last-mile capacity available for, and the performance of, broadband internet access service.

Finally, the rule requires ISPs to disclose commercial terms of service, including price of the service, privacy policies, and redress options. Specifically, the rule requires disclosure of, for example, monthly prices, usage-based fees, and fees for early termination or additional network services; a complete and accurate disclosure about the ISP's privacy practices, if any, including whether any network management practices entail inspection of network traffic, and whether traffic is stored, provided to third parties, or used by the ISP for non-network management purposes; and practices for resolving complaints and questions from consumers, entrepreneurs, and other small businesses. The rule requires ISPs to make such disclosures either via a publicly available, easily accessible website or through transmittal to the Commission, which will make such disclosures available via a publicly available, easily accessible website.

The Order eliminates the additional reporting obligations adopted in the Title II Order and the related guidance in the 2016 Advisory Guidance and returns to the requirements established in the Open internet Order. In addition, the Order eliminates the direct notification requirement adopted in the Title II Order.

The Commission anticipates that the revised disclosures will empower consumers and businesses with information about their broadband internet access service, protecting the openness of the internet. The information collection will assist the Commission in its statutory obligation to report to Congress on market entry barriers in the telecommunications market.

Federal Communications Commission.
Katura Jackson,
Federal Register Liaison Officer, Office of the Secretary.

[FR Doc. 2018-10063 Filed 5-10-18; 8:45 am]

BILLING CODE 6712-01-P